DEPARTMENT OF HOMELAND SECURITY

National Bio and Agro-Defense Facility (NBAF); Notice of Request for Expression of Interest for Potential Sites for the NBAF

AGENCY: Science and Technology Directorate (Office of Research & Development), DHS.

SUMMARY: The U.S. Department of Homeland Security (DHS) is exploring potential sites for a proposed new national research and development (R&D) asset, the National Bio and Agro-Defense Facility (NBAF), which is in the planning phase. The proposed facility size is approximately 500,000 ft² and its site will require a minimum of 30 acres. DHS is requesting Expressions of Interest from Federal agencies, State and Local governments, industry, academia, interested parties and organizations for potential locations that would accommodate the construction and operation of the NBAF. A consortium could be an appropriate respondent.

DHS will ultimately compile a short list of sites for analysis as reasonable alternatives to be considered in a National Environmental Policy Act (NEPA) Environmental Impact Statement (EIS), which will assess the environmental impacts of constructing and operating the NBAF facility at the various alternative sites.

DHS currently expects to publish a Notice of Intent (NOI) to prepare an EIS in the fall of 2006, at which time the public will have the opportunity to comment on the scope of the analysis.

DATES: Interested parties wishing to make an Expression of Interest should do so in writing by March 31, 2006 to ensure their consideration.

ADDRESSES: Please submit Expressions of Interest to: Department of Homeland Security, 245 Murray Lane SW., Bldg. 410, Attn: Glynis Fisher, Washington, DC 20528. For FEDEX, UPS, DHL, etc. deliveries use the mailroom phone number 202-772-9747.

FOR FURTHER INFORMATION CONTACT: Glynis Fisher by e-mail at glynis. fisher@dhs.gov or by fax to 202-205-3204.

SUPPLEMENTARY INFORMATION:

Background

Development of an integrated, national bio and agro-defense strategy has revealed that the current national bio and agro-defense capabilities are inadequate to meet future research requirements supporting both agricultural and public health national security. Foreign animal disease studies, public health threats from emerging, high-consequence zoonotic pathogens, and the need for development and licensure of medical countermeasures, are generating additional demands for biocontainment laboratory space. Current laboratory space available in the U.S. is not sufficient to support the increasing levels of research, development, and testing needed to meet the growing concerns about accidental or intentional introduction of foreign animal diseases into this country. Additional capability and capacity are also needed for high-consequence zoonotic disease countermeasures research and development and medical countermeasure testing and evaluation.

Why a New Facility? The proposed NBAF is an integrated human, foreign animal, and zoonotic disease research, development and testing facility that will support the complementary missions of the Department of Homeland Security (DHS), the Department of Human Health and Services (HHS) and the United States Department of Agriculture (USDA). NBAF would provide new research, development, testing and evaluation infrastructure that will allow for research to enhance agricultural and public health. This capability is needed to fill a critical gap in the nation's agro and biodefense plan.

The proposed NBAF is envisioned to provide the nation with the first integrated agricultural, zoonotic disease, and public health research, development, testing, and evaluation facility with the capability to address threats from human pathogens, high-consequence zoonotic disease agents, and foreign animal diseases. The NBAF would enhance the national bio-defense complex by modernizing and integrating agriculture biocontainment laboratories for foreign animal disease, human pathogens, and zoonotic diseases and could require Biosafety Level (BSL) 3 Agricultural and BSL 4 laboratory spaces. It would also provide the additional infrastructure required for threat and vulnerability assessments and for testing and evaluating promising foreign animal disease countermeasures.

Currently, the Plum Island Animal Disease Center (PIADC) provides the only U.S. research and confirmatory diagnostic capability for high-consequence foreign animal diseases. It is also the only laboratory in the U.S. equipped with research facilities that permit study of these diseases in livestock, such as cattle, sheep and swine. Recognizing that protecting the agricultural infrastructure is a critical element of our Nation's homeland security, the Homeland Security Act of 2002 transferred the ownership of the PIADC from the United States Department of Agriculture (USDA) to the DHS. While DHS now has responsibility for operating PIADC, both DHS and USDA conduct programs there as part of an integrated agro-defense strategy. The proposed NBAF would replace the existing PIADC facility and enhance capabilities to meet the mandated national bio and agro-defense mission requirements of DHS, HHS and USDA. Request for Expression of Interest: DHS requests Expressions of Interest from Federal agencies, State and Local governments, industry, academia, interested parties and organizations to identify potential sites with the capabilities needed to host the NBAF facility. A consortium could be an appropriate respondent. NBAF is the proposed new facility and is in the planning phase. All viable options will be evaluated for the location of the facility (i.e., Federal government property, Federal research property, land deeded to the government, long-term lease, commercial site, etc.).

This request for expression of interest, published in today's Federal Register, is the first step in the process to consider site options for the NBAF.

DHS will evaluate each EOI submission using 4 site criteria categories (research capabilities, workforce, acquisition/construction/operating and community acceptance) to determine if it should be further evaluated as part of the site planning process.

Research capabilities includes proximity to: (a) Existing research programs [medical/veterinary/ agriculture] that can be linked to NBAF mission requirements, (b) strength and breadth of scientific community and infrastructure, (c) ability of the proposed site and surrounding community to absorb additional research programs and infrastructure, (d) experience of existing research programs with BSL3 and/or 4 agents, (e) proximity to other related scientific programs and research infrastructure, and (f) proximity to vaccine industry capability.

Workforce includes proximity to the following: (a) Critical mass of intellectual research capacity, (b) recruiting opportunities for research staff, (c) local labor force availability for operations staff with expertise in operating a biocontainment facility, and (d) capability to meet mutual aid (police/fire/hospital) requirements to operate facility and be able to meet physical security requirements for a BSL3/4 facility.

Acquisition/construction/operations includes: (a) Land acquisition/development potential to locate the facility, (b) access to the site by highways and proximity to international airports, (c) environmental compatibility with the intended use of the site, (d) adequate utility infrastructure to support operations of facility, and (e) availability of local labor force for construction.

Community acceptance includes letters of support for locating NBAF at the site (i.e., local and state governments, national and local agricultural producer and commodity stakeholders, industry, academia, etc.).

DHS requires the following information for each proposed NBAF location:

1. A description of your consortium/ organization, its capabilities to support the location of the NBAF at its recommended site, and its interest in the DHS's NBAF program.

2. Letters of support for locating the NBAF facility at the site (i.e., local and state government, academia, industry, etc.).

3. A description of how the potential site addressed the four site criteria categories (research capabilities, workforce, and acquisition/ construction/operating) described above.

4. A map showing the location of the potential site, nearby (within 10 miles) political boundaries, demographics and characteristics of surrounding communities (within 10 miles), historical and cultural resources on site and contiguous to property, roads, railroads, airports, water bodies, parkland or other environmentally sensitive areas, and ecological characteristics of site.

5. A site description including ownership, total site acreage and acreage available for development (minimum 30 acres for NBAF facility); existing physical infrastructure including number of structures, their size, vintage and current use; current activities; on-site tenants (if applicable); estimated cost as tenant, access control systems; bioagent and hazardous materials handling at the site; waste management activities and capabilities for solid and liquid waste; previous regulatory compliance problems and past/current environmental concerns/contamination and clean up.

6. Availability/access to utilities (electric, water, steam, chilled water, distilled water) at the site for state-of-the-art biocontainment laboratory.

7. Safety and occupational health, risk management and environmental surveillance at the site.

Expression of Interest Format: The length of the Expression of Interest should be no more than 20 pages (letters of support do not count against page limit) using 12-point font. While the responder may determine how best to use the 20 pages, we recommend the following format: SECTION 1—Summary; SECTION 2—Description of location with specific reference to the 7 items requested by DHS above; SECTION 3—Discussion of the site criteria categories related to state-of-the-art biocontainment laboratories or operations of similar complexity. When describing similar work that has been performed, include the name of the organization, contract number if applicable, and name and telephone number of the organization's point of contact and contracting officer, as applicable.

Proprietary Information: If the Expression of Interest contains information that the submitter believes is privileged or confidential, the appropriate portions of the submission should be marked “Proprietary Information.” This restriction does not limit the Government's right to use or disclose data obtained without restriction from any source, including the respondent.

Submission: Submissions received after the closing date will not be considered. Each submittal (with full contact information: name, address, phone, fax and e-mail) should consist of an original plus three photocopies, and DHS also requests that the submittal include an electronic version of all materials, preferably in PDF format.

DHS will not consider attachments or appendices. Faxed or e-mailed submissions will not be accepted. Respondents may submit written questions within 20 business days of this notice being published. Questions may be submitted by e-mail to glynis.fisher@dhs.gov or by fax to 202-205-3204. The responses to frequently asked questions, any other significant questions and any amendments or corrections to the EOI will be posted on the NBAF Planning and Outreach Web site at www.dhs.gov/nbaf.

DHS is under no obligation to pay for any costs associated with the preparation or submission of Expressions of Interest in response to this notice. DHS reserves the right to respond or not respond to any portion, all, or none of the Expressions of Interest submitted in response to this Notice. Responders whose submissions are deemed worthy of further consideration given the criteria expressed herein may be asked to provide additional information. DHS's further consideration of certain Responders' Expressions of Interest does not obligate DHS to provide funds to such Responders or to enter into contractual relationships with such Responders.

Dated: December 28, 2005.
Maureen I. McCarthy,
Director, Office of Research and Development, Department of Homeland Security.

[FR Doc. E6-512 Filed 1-18-06; 8:45 am]

BILLING CODE 4410-10-P